DEPARTMENT OF ENERGY

Federal Energy Regulatory Commission

[Project No.: P-2149-152]

Public Utility District No. 1 of Douglas County (Douglas PUD); Notice of Application Ready for Environmental Analysis and Soliciting Comments, Recommendations, Terms and Conditions, and Prescriptions

August 10, 2010.

Take notice that the following hydroelectric application has been filed with the Commission and is available for public inspection.

a. Type of Application: New Major License.

b. Project No.: P-2149-152.

c. Date filed: May 27, 2010.

d. Applicant: Public Utility District No. 1 of Douglas County (Douglas PUD).

e. Name of Project: Wells Hydroelectric Project.

f. Location: The existing project is located on the Columbia River in Douglas, Okanogan, and Chelan Counties, Washington. The project currently occupies 15.15 acres of Federal land managed by the U.S. Department of the Interior and the U.S. Army Corps of Engineers.

g. Filed Pursuant to: Federal Power Act 16 U.S.C. 791(a)-825(r).

h. Applicant Contact: Shane Bickford, Natural Resources Supervisor, Public Utility District No. 1 of Douglas County, 1151 Valley Mall Parkway, East Wenatchee, WA 98802-4497; (509) 881-2208.

i. FERC Contact: Kim A. Nguyen (202) 502-6105 or kim.nguyen@ferc.gov.

j. Deadline for filing comments, recommendations, terms and conditions, and prescriptions is 60 days from the issuance of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. The existing Wells Hydroelectric Project consists of a single development with an installed capacity of 774,300 kilowatts. Average annual generation of the project is 4,364,959 megawatt-hours. In addition to providing electric service to over 18,000 customers in Douglas County, power from the Wells Project is used to meet both daily and seasonal peaks in power demand in the Pacific Northwest region and contributes to the reliability and stability of the regional electric system.

The Wells Project consists of: (1) A 1,130-foot-long, 168-foot-wide concrete hydrocombine dam with integrated generating units, spillways, switchyard and fish passage facilities; (2) a 2,300-foot-long, 40-foot-high earth and rock-filled west embankment; (3) a 1,030-foot-long, 160-foot-high earth and rock-filled east embankment; (4) eleven 46-foot-wide, 65-foot-high ogee-designed spillway bays with 2 vertical lift gates (upper leaf is 46 feet by 30 feet and lower leaf is 46 feet by 35 feet); (5) five spillways modified to accommodate the juvenile fish bypass system; (6) 10 generating units each housed in a 95-foot-wide, 172-foot-long concrete structure with an installed capacity of 774.3 megawatts (MW) and maximum capacity of 840 MW; (7) five 14.4-kilovolts (kV) power transformers each connected to 2 generating units converting the power to 230 kV; (8) two 41-miles-long, 230-kV single-circuit transmission lines running parallel to each other; and (9) appurtenant facilities. The Wells Project is operated as a run-of-river facility with daily outflows to the Wells Reservoir equaling daily inflows.

Douglas PUD is not proposing any changes to project operations or the project boundary for the Wells Project. New facilities proposed by Douglas PUD include new interpretive displays, new facilities and infrastructure at the Wells and Methow fish hatcheries, new recreation facilities, and participation in a white sturgeon hatchery and rearing facility.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

o. Procedural Schedule:

The application will be processed according to the following Hydro Licensing Schedule. Revisions to the schedule may be made as appropriate.

Milestone | Target date
Commission issues Draft EA | April 2011.
Commission issues Final EA | October 2011.

p. Final amendments to the application must be filed with the Commission no later than 30 days from the issuance date of the notice of ready for environmental analysis.

Nathaniel J. Davis, Sr.,
Deputy Secretary.

[FR Doc. 2010-20502 Filed 8-18-10; 8:45 am]

BILLING CODE 6717-01-P